DEPARTMENT OF VETERANS AFFAIRS

[OMB Control No. 2900-0717]

Agency Information Collection Activity: Child Care Provider Information—For the Child Care Subsidy Program (VA Form 0730b); Withdrawal

AGENCY: Human Resources and Administration/Operations, Security, and Preparedness, Department of Veterans Affairs.

ACTION: Notice; withdrawal.

SUMMARY: On Friday, September 13, 2024, The Human Resources and Administration/Operations, Security, and Preparedness (HRA/OSP), VA, published a notice in the Federal Register announcing an opportunity for public comment on the proposed collection Child Care Provider Information—For the Child Care Subsidy Program (VA Form 0730B). This notice was published in error; therefore, this document corrects that error by withdrawing this FR notice, document number 2024-20802.

DATES: As of October 9, 2024, the FR notice published at 89, FR 75059 on Friday, September 13, 2024, is withdrawn.

FOR FURTHER INFORMATION CONTACT: Maribel Aponte, Office of Enterprise and Integration, Data Governance Analytics (008), 810 Vermont Ave. NW, Washington, DC 20006, (202) 461-8900 or email maribel.aponte@va.gov.

SUPPLEMENTARY INFORMATION: FR Doc. 2024-20802, published on Friday, September 13, 2024 (89 FR 75059), is withdrawn by this notice.

By direction of the Secretary.
Maribel Aponte,
VA PRA Clearance Officer, Office of Enterprise and Integration/Data Governance Analytics, Department of Veterans Affairs.

[FR Doc. 2024-23699 Filed 10-11-24; 8:45 am]

BILLING CODE 8320-01-P